DEPARTMENT OF TRANSPORTATION

Federal Aviation Administration

Notice of Intent To Release Certain Properties From All Terms, Conditions, Reservations and Restrictions of a Quitclaim Deed Agreement Between Sarasota Manatee Airport Authority and the Federal Aviation Administration for the Sarasota-Bradenton International Airport, Sarasota, FL

AGENCY: Federal Aviation Administration (FAA), DOT.

ACTION: Request for public comment.

SUMMARY: The FAA hereby provides notice of intent to release certain airport properties 6.49 acres at the Sarasota-Bradenton International Airport, Sarasota, FL from the conditions, reservations, and restrictions as contained in a Quitclaim Deed agreement between the FAA and the Sarasota Manatee Airport Authority, dated December 16, 1947. The release of property will allow Sarasota Manatee Airport Authority to dispose of the property for other than aeronautical purposes. The property is located 1361 West University Parkway in Manatee County. The parcel is currently designated as commercial/industrial land. The property will be released of its federal obligations for commercial development. The fair market value of this parcel has been determined to be $1,265,000.

Documents reflecting the Sponsor's request are available, by appointment only, for inspection at the Sarasota-Bradenton International Airport and the FAA Airports District Office.

DATES: Comments are due on or before November 13, 2017.

ADDRESSES: Documents are available for review at Sarasota-Bradenton International Airport, and the FAA Airports District Office, 5950 Hazeltine National Drive, Suite 400, Orlando, FL 32822. Written comments on the Sponsor's request must be delivered or mailed to: Pedro Blanco, Community Planner, Orlando Airports District Office, 5950 Hazeltine National Drive, Suite 400, Orlando, FL 32822-5024.

FOR FURTHER INFORMATION CONTACT: Pedro Blanco, Community Planner, Orlando Airports District Office, 5950 Hazeltine National Drive, Suite 400, Orlando, FL 32822-5024.

SUPPLEMENTARY INFORMATION: Section 125 of The Wendell H. Ford Aviation Investment and Reform Act for the 21st Century (AIR-21) requires the FAA to provide an opportunity for public notice and comment prior to the “waiver” or “modification” of a sponsor's Federal obligation to use certain airport land for non-aeronautical purposes.

Bart Vernace,
Manager, Orlando Airports District Office, Southern Region.

[FR Doc. 2017-22121 Filed 10-11-17; 8:45 am]

BILLING CODE 4910-13-P